ENVIRONMENTAL PROTECTION AGENCY

[ER-FRL-9048-5]

Environmental Impact Statements; Notice of Availability

Responsible Agency: Office of Federal Activities, General Information 202-564-5632 or https://www.epa.gov/nepa/.

Weekly receipt of Environmental Impact Statements

Filed 12/09/2019 10 a.m. ET Through 12/16/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190294, Draft, BLM, ID, Blackrock Land Exchange, Comment Period Ends: 02/03/2020, Contact: Bryce Anderson 208-478-6353

EIS No. 20190295, Draft, USFS, ID, Land Management Plan Revision for the Nez Perce-Clearwater National Forests, Comment Period Ends: 03/19/2020, Contact: Zachary Peterson 208-935-4239

EIS No. 20190297, Final Supplement, USACE, NM, Middle Rio Grande Flood Protection Bernalillo to Belen, New Mexico: Mountain View, Isleta and Belen Units Integrated General Reevaluation Report and Supplemental Environmental Impact Statement, Review Period Ends: 01/21/2020, Contact: Michael D. Porter 505-342-3264

EIS No. 20190298, Final, FDOT, FL, Gulf Coast Parkway, Review Period Ends: 01/21/2020, Contact: Alan Vann 850-330-1523

EIS No. 20190299, Final, BR, CA, Reinitiation of Consultation on the Coordinated Long-Term Operation of the Central Valley Project and State Water Project, Review Period Ends: 01/21/2020, Contact: Cynthia Meyer 916-537-7060

EIS No. 20190300, Final, BIA, NV, Eagle Shadow Mountain Solar Project, Review Period Ends: 01/21/2020, Contact: Chip Lewis 602-379-6750

EIS No. 20190301, Second Final Supplemental, DOS, MT, Keystone XL Project, Review Period Ends: 01/21/2020, Contact: M. Ross Alliston 202-647-4828

Amended Notice

EIS No. 20190274, Draft, BIA, OK, Osage County Oil and Gas Draft Environmental Impact Statement, Comment Period Ends: 01/22/2020, Contact: Mosby Halterman 918-781-4660. Revision to FR Notice Published 11/22/2019; Extending the Comment Period from 1/6/2020 to 1/22/2020.

Dated: December 17, 2019.
Robert Tomiak,
Director, Office of Federal Activities.

[FR Doc. 2019-27519 Filed 12-19-19; 8:45 am]

BILLING CODE 6560-50-P